DEPARTMENT OF DEFENSE

Department of the Army

Army Science Board Fall Plenary Meeting

AGENCY: Department of the Army, DoD.

ACTION: Notice of open meeting.

SUMMARY: Pursuant to the Federal Advisory Committee Act of 1972 (5 U.S.C., Appendix, as amended), the Sunshine in the Government Act of 1976 (U.S.C. 552b, as amended) and 41 Code of the Federal Regulations (CFR 102-3. 140 through 160, the Department of the Army announces the following committee meeting:

Name of Committee: Army Science Board (ASB) Fall Plenary Session.

Date: Wednesday, October 16, 2013.

Time: 1530—Until completion (UTC).

Location: Hyatt Regency Crystal City, 2799 Jefferson Davis Hwy., Arlington, VA 22202.

Purpose of Meeting: The purpose of the meeting is for Army Science Board members to review and deliberate on the FY14 Army Science Board study reports.

Agenda: The board will convene to present the results of the Fiscal Year 2013 study titled, “Creating an Innovation Culture in the Army.” The ASB board members will cast a vote to accept the results of this study and record that vote for record according to the Army Science Board bylaws, Article VII, Section 2.

Committee's Designated Federal Officer or Point of Contact: COL William McLagan, william.m.mclagan.mil@mail.mil and 703-545-8651.

SUPPLEMENTARY INFORMATION: Filing Written Statement: Pursuant to 41 CFR 102-3.140d, the Committee is not obligated to allow the public to speak; however, interested persons may submit a written statement for consideration by the Subcommittees. Individuals submitting a written statement must submit their statement to the Designated Federal Officer (DFO) at the address listed (see FOR FURTHER INFORMATION CONTACT). Written statements not received at least 10 calendar days prior to the meeting, may not be provided to or considered by the subcommittees until its next meeting.

The DFO will review all timely submissions with the subcommittee Chairs and ensure they are provided to the specific subcommittee members before the meeting. After reviewing written comments, the subcommittee Chairs and the DFO may choose to invite the submitter of the comments to orally present their issue during a future open meeting.

The DFO, in consultation with the subcommittee Chairs, may allot a specific amount of time for the members of the public to present their issues for review and discussion.

FOR FURTHER INFORMATION CONTACT: Army Science Board Designated Federal Official, 2530 Crystal Drive, Suite 7098. Arlington, VA 22202.

Brenda S. Bowen,
Army Federal Register Liaison Officer.

[FR Doc. 2013-23956 Filed 10-1-13; 8:45 am]

BILLING CODE 3710-08-P